DEPARTMENT OF COMMERCE

National Oceanic and Atmospheric Administration

[RTID 0648-XC649]

North Pacific Fishery Management Council; Public Meeting

AGENCY: National Marine Fisheries Service (NMFS), National Oceanic and Atmospheric Administration (NOAA), Commerce.

ACTION: Notice of webconference.

SUMMARY: The North Pacific Fishery Management Council (Council) Groundfish Plan Teams will meet February 2, 2023.

DATES: The meeting will be held on Thursday, February 2, 2023, from 9 a.m. to 5 p.m. PST.

ADDRESSES: The meeting will be a webconference. Join online through the link at https://meetings.npfmc.org/Meeting/Details/2974.

Council address: North Pacific Fishery Management Council, 1007 W 3rd Ave., Anchorage, AK 99501-2252; telephone: (907) 271-2809. Instructions for attending the meeting are given under SUPPLEMENTARY INFORMATION, below.

FOR FURTHER INFORMATION CONTACT: Sara Cleaver or Diana Stram, Council staff; phone: (907) 271-2809 and email: sara.cleaver@noaa.gov or diana.stram@noaa.gov. For technical support please contact our administrative staff; email: npfmc.admin@noaa.gov.

SUPPLEMENTARY INFORMATION:

Agenda

Thursday, February 2, 2023

The Bering Sea and Aleutian Islands (BSAI) and Gulf of Alaska (GOA) Plan Teams will meet to discuss prioritization of stock assessments, including frequency, assessment types, and Stock Assessment and Fishery Evaluation (SAFE) guidelines. The agenda is subject to change, and the latest version will be posted at https://meetings.npfmc.org/Meeting/Details/2974 prior to the meeting, along with meeting materials.

Connection Information

You can attend the meeting online using a computer, tablet, or smart phone; or by phone only. Connection information will be posted online at: https://meetings.npfmc.org/Meeting/Details/2974.

Public Comment

Public comment letters should be submitted electronically to https://meetings.npfmc.org/Meeting/Details/2974.

Authority: 16 U.S.C. 1801 et seq.

Dated: January 9, 2023.
Rey Israel Marquez,
Acting Deputy Director, Office of Sustainable Fisheries, National Marine Fisheries Service.

[FR Doc. 2023-00541 Filed 1-12-23; 8:45 am]

BILLING CODE 3510-22-P